ENVIRONMENTAL PROTECTION AGENCY

[ER-FRL-6616-6]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-IBR-K38007-CA Rating EC2, Grassland Bypass Project (2001 Use Agreement), To Implement the New Use Agreement for the period from October 1, 2001 through December 21, 2009, San Joaquin River and Merced River, Fresno, Merced and Stanslaus Counties, CA.

Summary: EPA strongly supports improving water quality and the elimination of agricultural drainwater from 93 to 100 miles of wetland channels. Nevertheless, EPA expressed concerns regarding gaps in the information provided by the DEIS, including future treatment of the sediment accumulation in the San Luis Drain, cumulative impacts, and the formulation of alternatives.

ERP No. D-NPS-C67000-NJ Rating EC2, Maurice National Scenic and Recreational River (NS&RR) Comprehensive Management Plan, Implementation, Atlantic and Cumberland Counties, NJ.

Summary: EPA expressed environmental concerns about the timely implementation and monitoring of the management plan. More detail is needed for the recommendations to enhance and protect open space, water quality, and wildlife corridor values. The final EIS should include a water quality monitoring plan and a detailed plan for periodic evaluation of the implementation of the plan.

Final EISs

ERP No. F-FRC-E08020-00 Gulfstream Natural Gas System Project, Construction and Operation, To Provide Natural Gas Transportation Service, AL, MS and FL.

Summary: By employing alternate technology and different routes, the applicant has substantially reduced turbidity impacts to marine live bottom communities in the proposed pipeline right-of-way (ROW). Wetland losses were reduced by restricting construction ROW and proposing wetland enhancements and restoration as mitigation. Despite these efforts, EPA continues to have concerns about live bottom destruction and recommends seeding of benthic organisms and placement of habitat modules as mitigation for live bottom impacts.

ERP No. F-MMS-G39008-00 Programmatic EIS—Proposed Use of Floating Production, Storage and Offloading Systems on the Gulf of Mexico, Outer Continental Shelf, Western and Central Planning Areas, TX, LA, MS, AL and FL.

Summary: EPA has no further comments to offer on the FEIS.

ERP No. F-NPS-C61010-NJ Great Egg Harbor National Scenic and Recreation River, Comprehensive Management Plan, Implementation, Altantic Gloucester, Camden and Cape May Counties, NJ.

Summary: The final EIS adequately addressed our concerns.

Dated: March 20, 2001.
Joseph C. Montgomery,
Director, NEPA Compliance Division, Office of Federal Activities.

[FR Doc. 01-7320 Filed 3-22-01; 8:45 am]

BILLING CODE 6560-50-U